Department of Commerce

Secretarial India High Technology Business Development Mission; February 6-11, 2011

AGENCY: International Trade Administration, Department of Commerce.

SUMMARY: Secretary of Commerce Gary Locke will lead a senior-level business development trade mission to New Delhi, Mumbai and Bangalore, India, February 6-11, 2011. The overall focus of the trip will be commercial opportunities for U.S. companies, including joint ventures and export opportunities. In each city participants will have a market briefings followed by one-on-one appointments with potential buyers/partners and meetings with high level government officials.

DATES: Applications should be submitted to the Office of Business Liaison by November 30, 2010. Applications received after that date will be considered only if space and scheduling constraints permit.

Contact: Office of Business Liaison; Room 5062; Department of Commerce; Washington, DC 20230; Tel: (202) 482-1360; Fax: (202) 482-4054

SUPPLEMENTARY INFORMATION:

Mission Description: U.S. Secretary of Commerce Gary Locke will lead a senior-level U.S. business development mission to Delhi, Mumbai, and Bangalore from February 6-11, 2011 to discuss market development policies and promote U.S. exports in the following advanced industrial sectors: The civil nuclear, defense and security, civil aviation, and information and communications technology (ICT).

The mission will help U.S. companies already doing business in India increase their current level of exports and business interests, and it will focus on helping experienced U.S. exporters which have not yet done business in India enter the market in support of creating jobs in the United States. Participating firms will gain market information, make business and government contacts, solidify business strategies, and/or advance specific projects. In each of these important sectors, participating U.S. companies will meet with prescreened potential partners, agents, distributors, representatives, and licensees. The agenda will also include meetings with high-level national and local government officials, networking opportunities, country briefings, and seminars.

The delegation will be composed of 20-25 U.S. firms representing a cross-section of U.S. high technology industries. Representatives of the U.S. Trade and Development Agency (USTDA), the Export-Import Bank of the United States (Ex-Im) and the Overseas Private Investment Corporation (OPIC) will be invited to participate (as appropriate) to provide information and counseling on their programs, as they relate to the Indian market.

Commercial Setting: India's sustained economic growth of around 5.5 percent in 2009 and dynamic expansion in several of its regional markets has created wide and diverse business prospects for U.S. exporters and investors. With 2010 growth estimates hovering at about 9.7 percent, India remains one of the fastest growing, largest, and most dynamic economies in the world. The global economic downturn did not affect India to the same extent as the United States, though most Indian companies remain cautious about making large investments. Worldwide economic difficulties notwithstanding, U.S. multinationals are expanding and deepening their market penetration. U.S. firms with advanced and niche-market products and services are entering the market for the first time, or are replacing legacy distributors appointed in the slow-growth past with more capable and aggressive representatives. The recent rise of U.S. exports to India, the daily business press announcements, and the rapidly expanding demand for Commercial Service India matchmaking programs and due-diligence services all point to India being open for business.

In fact, the pace of the United States' trade and investment relationship with India is accelerating. In 2009, U.S. exports to India amounted to $16.4 billion. Advanced technologies, including aerospace, specialized materials, information and communications technologies, electronics and flexible manufacturing systems underpinned this growth. U.S. exports to India are up 24 percent through the first six months of 2010. India is expected to play a major role in the Obama Administration's National Export Initiative (NEI), which aims to double U.S. exports over the next five years. Commercial Service India, with its seven offices across India, is actively implementing the NEI on the ground and will assist U.S. firms across a range of sectors including, but not limited to civil nuclear energy, defense, civil aviation, defense and security, and ICT.

In terms of long-range economic forecasts, some major consulting companies project that more than 500 million people, a full 50 percent of the population, will enter India's middle class over the next 15 years. One noted firm expects India to have and sustain the fastest growing economy in the world in the next three to five years. Another well-known consultancy believes that India will become the 3rd largest economy in the world by 2032. India's “demographic dividend” (71 percent of the population is under the age of 35, and the median age is 25) will ensure that India retains strong production and knowledge-based competitiveness for many years to come. India necessitates multiple marketing efforts that address differing regional opportunities, standards, languages, cultural differences, and levels of economic development. Gaining access to India's markets requires careful analysis of consumer preferences, existing sales channels, and changes in distribution and marketing practices, all of which are continually evolving.

Industry Focus: The mission will focus on four industry sectors—civil nuclear, defense and security equipment/systems/services, civil aviation, and ICT. It is designed to take advantage of these four strategic growth sectors and advance the discussion of U.S. market access, regulatory, and export control issues.

Civil Nuclear: This mission would represent the first Department-led civil-nuclear event in five years to India. Industry assessments suggest the Indian nuclear power market in total is worth as much as $150 billion. In September 2009, the Government of India (GOI) officially designated two site locations for U.S. commercial nuclear technology. The Indian cabinet reserved sites at Mithi Virdi in Gujarat and at Kovada in Andhra Pradesh to host the U.S. “reactor parks.” The U.S. government has worked closely with the GOI to implement the U.S.-India nuclear cooperation agreement. U.S. reactor companies are on track to do business in India's expanding civil nuclear sector which provides opportunities along the civil nuclear supply chain for small- and medium-size civil nuclear suppliers.

Defense and Security: Over the next three years, India is expected to procure more than $10 billion in state-of-the-art commercial and homeland security technology products, solutions, and services for border protection, marine security, counter insurgency, city surveillance, intelligence infrastructure, and other critical security infrastructure needs. The United States and India are closely collaborating on homeland security through our five-pillared Strategic Dialogue and a Joint Working Group on Counter-Terrorism (CTJWG). This homeland security component of the CTJWG offers us a unique opportunity to integrate U.S. business into the bilateral partnership with India by creating a private sector-public sector advisory forum within the government-to-government CTJWG. It will focus on translating the policy cooperation and goodwill between the two countries into business opportunities and export growth for U.S. companies.

Civil Aviation: Currently ranked ninth in the global civil aviation market, India's rapidly growing aviation sector is expected to become one of the top five civil aviation markets in the world over the next five years. Domestic passenger travel grew by 22 percent to 25.7 million passengers between January-June 2010 compared with 21.1 million passengers in January-June 2009, with private airlines accounting for about 75 percent of the domestic aviation market. Both Boeing and Airbus forecast India's demand for aircraft to exceed 1,000 aircraft worth more than $130 billion over the next 20 years. To keep pace with this rapid expansion, the GOI is planning multibillion dollar infrastructure investments to handle an estimated 580 million passengers in the next five to seven years.

Cooperation between the U.S. and Indian Governments in civil aviation has grown steadily since the signing of the U.S.-India Open Skies Agreement in 2005. With the launch of the U.S.-India Aviation Cooperation Program (ACP) in 2007, the United States and India established a forum for unified communication between the GOI and U.S. public and private sectors active in India with the goal of identification and support of the GOI's civil aviation sector modernization priorities. Early in 2010, the GOI and the United States created the U.S.-India Aviation Security Working Group to increase close cooperation on mutual commercial and security interest. In March, 2010, the inaugural meeting of the U.S.-India High Technology Cooperation Group (HTCG) Civil Aviation Subcommittee was held in Washington, DC. Among the most important areas of agreement coming from the group's private sector and government-government sessions were formation of an Airport Infrastructure Working Group (AIWG) tasked with identifying ways to encourage increased U.S. private sector participation in India's airport development; agreement to increase information exchange on air traffic control (ATC) technology enabling modernization of India's ATC system; consideration of a civil aviation business development trade mission to India; and collaboration on the development of alternative aviation fuels. The inaugural meeting of the AIWG held on September 30 in New Delhi directly addressed the issue of facilitating U.S. private sector investment in India's $20 billion dollar civil airport infrastructure development market.

Information and Communications Technology: As part of India's economic transformation, ICT represents about 11 percent of India's GDP. Telecom is considered the fastest growing sector, with cellular connections that have surpassed 600 million (with an expectation of reaching 1 billion by 2015). Internet and broadband infrastructure plans are bold and are based on rapid growth projections. In the next five years, the Indian market will reach 500 million fixed-wire line Internet connections, with fixed broadband comprising 200 million of the connections. The rapid growth of India's ICT industry is generating massive, untapped opportunities for U.S. companies. India's software and services industry accounted for $59.6B in aggregated revenue in FY2008-09, and spending in these sectors is forecast to grow at over 17 percent year on year between 2010 and 2014.

Mission Stops:

New Delhi: New Delhi, India's capital, serves as the seat of the GOI and the government of the National Capital Territory of New Delhi. The city is known for its wide, tree-lined boulevards and is home to numerous national institutions and landmarks. The city's service sector has expanded due in part to the large skilled English-speaking workforce that has attracted many multinational companies. Key service industries include information technology, telecommunications, hotels, banking, media and tourism. Most U.S. companies, with offices in India, are either headquartered in New Delhi or have an active office in this city. U.S. trade associations such as the American Chamber of Commerce and the U.S. India Business Council and Indian trade associations, representing thousands of Indian companies, such as Confederation of Indian Industry (CII) and Federation of Indian Chambers of Commerce and Industry (FICCI) are also headquartered in New Delhi.

Bangalore: Bangalore, known as India's Silicon Valley, is renowned as India's hub for the aerospace/defense, IT and semiconductor sectors. The city also boasts the largest cluster of firms operating in the biotechnology sector. Many high tech U.S. companies such as Cisco, Intel, Motorola, and Texas Instruments, have their India headquarters in Bangalore. Additionally, some of India's leading companies and entrepreneurs, including members of the U.S.-India CEO Forum, are based in this city. As it is among the most cosmopolitan and well known cities in India, Bangalore is a leading destination for U.S. companies coming to India for the first time. The Mission will also overlap with the Aero India 2011 trade show in Bangalore. Aero India is organized by the Ministry of Defense of India and will include a large U.S. pavilion. The U.S. Department of Defense will also be participating in this show.

Mumbai: Mumbai, located in the state of Maharashtra, is the commercial and financial center of India. Mumbai is India's largest city and home to almost 20 million people, and many of India's industrial powerhouses are headquartered in the city, including Tata, Reliance, and Mahindra. Mumbai is also at the center of India's civil nuclear industry and U.S. nuclear firms are eagerly eyeing the Indian market. The region surrounding Mumbai has emerged as an industrial hub and several major U.S. corporations across a wide variety of sectors have established a presence in the region, including General Motors, Kellogg and John Deere. It is not an exaggeration to say that Mumbai is truly the Gateway of India, and U.S. firms interested in doing business in India should make a point to visit this city.

Mission Goals: This Business Development Mission to India will demonstrate the United States commitment to a sustained economic partnership with India. The mission will combine Secretarial level policy dialogue and business development for U.S. firms. The mission's purpose is to support participants as they construct a firm foundation for future business in India and specifically aims to:

• Assist in identifying potential partners and strategies for U.S. companies to gain access to the Indian market for high technology products and services.

• Provide an opportunity for participant's to be present for policy and regulatory framework discussions with India government officials and private sector representatives to advance U.S. market access interests in India.

• Confirm U.S. Government support for activities of U.S. business in India and to provide access to senior Indian government decision makers.

• Listen to the needs, suggestions and experience of individual participants so as to shape appropriate U.S. Government positions regarding India and U.S. business interests.

• Organize private and focused events with local business and association leaders capable of becoming partners and clients for U.S. firms as they develop their business in India.

• Assist development of competitive strategies and market access with high level information gathering from private and public-sector leaders.

Mission Scenario: During the High Technology Business Development Mission to India the participants will:

• Meet with high-level Indian government officials.

• Meet with prescreened potential partners, agents, distributors, representatives and licensees.

• Meet with representatives of the Chambers of Commerce, industry and trade associations.

• Attend briefings conducted by Embassy officials on the economic and commercial climates.

Receptions and other business events will be organized to provide mission participants with further opportunities to speak with local business and government representatives, as well as U.S. business executives living and working in the region.

Timetable:

New Delhi

Sunday-February 6

• Arrive New Delhi.

• Orientation/Briefing from U.S. Government trade finance agencies.

• Economic/Market Briefing by U.S. Embassy Officials.

• Welcome Dinner.

Monday-February 7

• Business Event/Briefing with Local Industry Representatives.

• High-level Government Meetings and Roundtables for Delegates.

• One-on-One Business Meetings for the Delegation.

• Reception Hosted by the U.S. Ambassador.

Tuesday-February 8

• One-on-One Business Meetings for the Delegation.

• Government and Industry Meetings.

• Late Afternoon Departure for Bangalore.

Bangalore

Wed.-February 9

• Meetings with Local Government Officials.

• Business Event/Briefing with Local Industry Representatives.

• One-on-One Business Meetings for the Delegation.

• Site Visit to U.S. Export-related Venture.

Thursday-February 10

• Morning Departure for Mumbai.

Mumbai

Thursday-February 10

• Arrive Mumbai.

• Economic/Market Briefing by U.S. Government Officials.

• Meetings with Local Government Officials.

• Business Event/Briefing with Local Industry Representatives.

• Reception Hosted by U.S. Consul General.

Friday-February 11

• One-on-One Business Meetings for the Delegation.

• Meetings with Senior Indian Industry and Government Officials.

• Closing Dinner.

• Mission Ends/Departure.

Participation Requirements: All parties interested in participating in the Secretarial India High Technology Business Development Mission must complete and submit an application package for consideration by the U.S. Department of Commerce. All applicants will be evaluated on their ability to meet certain conditions and best satisfy the selection criteria as outlined below. Approximately 20-25 companies will be selected from the applicant pool to participate in the mission.

Fees and Expenses: After a company has been selected to participate in the mission, a payment to the Department of Commerce in the form of a participation fee is required. The participation fee, based on 20 companies, will be $10,500 for large firms and $8,500 for a small or medium-sized enterprise (SME), which includes one principal representative.* The fee for each additional firm representative (large firm or SME) is $2,500.

* An SME is defined as a firm with 500 or fewer employees or that otherwise qualifies as a small business under SBA regulations (see http://www.sba.gov/services/contracting opportunities/sizestandardstopics/index.html). Parent companies, affiliates, and subsidiaries will be considered when determining business size. The dual pricing schedule reflects the Commercial Service's user fee schedule that became effective May 1, 2008 (see http://www.export.gov/newsletter/march2008/initiatives.html for additional information).

Expenses for travel, lodging, some meals, and incidentals will be the responsibility of each mission participant.

Conditions for Participation: An applicant must submit a completed and signed mission application and supplemental application materials, including adequate information on the company's products and/or services, primary market objectives, and goals for participation. If the Office of Business Liaison receives an incomplete application, the Department of Commerce may either: Reject the application, request additional information/clarification, or take the lack of information into account when evaluating the applications.

Each applicant must also:

• Certify that the products and services it seeks to export through the mission are either produced in the United States, or, if not, marketed under the name of a U.S. firm and have at least fifty-one percent U.S. content. In cases where the U.S. content does not exceed fifty percent, especially where the applicant intends to pursue investment and major project opportunities, the following factors, often associated with U.S. ownership, may be considered in determining whether the applicant's participation in the trade mission is in the U.S. national interest:

• U.S. materials and equipment content;

• U.S. labor content;

• Repatriation of profits to the U.S. economy; and/or

• Potential for follow-on business that would benefit the U.S. economy;

• Certify that the export of the products and services that it wishes to export through the mission would be in compliance with U.S. export controls and regulations;

• Certify that it has identified to the Department of Commerce for its evaluation any business pending before the Department of Commerce that may present the appearance of a conflict of interest;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

Selection Criteria for Participation: Selection will be based on the following criteria in decreasing order of importance:

• Consistency of company's products or services with the scope and desired outcome of the mission's goals;

• Suitability of a company's products or services to the Indian market and the likelihood of a participating company's increased exports to or business interests in India as a result of this mission;

• Demonstrated export experience in India and/or other foreign markets;

• Prior experience in public discussions, such as through conferences, business organizations, public/private entities, or academic fora, on policy issues related to market access for U.S. firms in India;

• Current or pending major project participation; and

• Rank/seniority of the designated company representative.

Additional factors, such as diversity of company size, type, location, and demographics, may also be considered during the review process.

Referrals from political organizations and any documents, including the application, containing references to partisan political activities (including political contributions) will be removed from an applicant's submission and not considered during the selection process.

Timeframe for Recruitment and Applications: Mission recruitment will be conducted in an open and public manner, including publication in the Federal Register posting on the Commerce Department trade mission calendar (http://www.ita.doc.gov/doctm/tmcal.html) and other Internet Web sites, press releases to general and trade media, direct mail, broadcast fax, notices by industry trade associations and other multiplier groups, and publicity at industry meetings, symposia, conferences, and trade shows. The Commerce Department's Office of Business Liaison and the International Trade Administration will explore and welcome outreach assistance from other interested organizations, including other U.S. Government agencies.

Recruitment for this mission will begin immediately upon approval. Applications can be completed on-line at the India High Technology Business Development Mission Web site at http://www.trade.gov/IndiaMission2011 or can be obtained by contacting the U.S. Department of Commerce Office of Business Liaison (202-482-1360 or IndiaMission2011@doc.gov). The application deadline is Tuesday, November 30, 2010. Completed applications should be submitted to the Office of Business Liaison. Applications received after Tuesday, November 30, 2010 will be considered only if space and scheduling constraints permit.

General Information and Applications:

The Office of Business Liaison, 1401 Constitution Avenue, NW., Room 5062, Washington, DC 20230. Tel: 202-482-1360. Fax: 202-482-4054. E-mail: IndiaMission2011@doc.gov.

Clarance E. Burden,
US & FCS, Senior Budget Analyst, Commercial Service Trade Missions Program.

[FR Doc. 2010-28148 Filed 11-5-10; 8:45 am]

BILLING CODE 3510-FP-P